DEPARTMENT OF THE INTERIOR

Fish and Wildlife Service

[FWS-HQ-FAC-2014-N038; FXFR133609ANS09-FF09F14000-134]

Aquatic Nuisance Species Task Force Meeting

AGENCY: Fish and Wildlife Service, Interior.

ACTION: Notice of meeting.

SUMMARY: We, the U.S. Fish and Wildlife Service, announce a public meeting of the Aquatic Nuisance Species (ANS) Task Force. The ANS Task Force's purpose is to develop and implement a program for U.S. waters to prevent introduction and dispersal of aquatic invasive species (AIS); to monitor, control, and study such species; and to disseminate related information.

DATES: The ANS Task Force will meet from 8 a.m. to 4:30 p.m. on Wednesday, May 7, through Thursday, May 8, 2014. For security purposes, registration for the meeting is required. If you wish to attend the meeting, you must register by contacting the ANS Task Force Executive Secretary (see FOR FURTHER INFORMATION CONTACT) no later than May 1, 2014.

ADDRESSES: The ANS Task Force meeting will take place at the U.S. Fish and Wildlife Service, Room 530, 4401 North Fairfax Drive, Arlington, VA 22203 (telephone: 703-358-2398).

FOR FURTHER INFORMATION CONTACT: Laura Norcutt, Acting Executive Secretary, ANS Task Force, by telephone at (703) 358-2398, or by email at Laura_Norcutt@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended), and is composed of 13 Federal and 13 ex-officio members and co-chaired by the U.S. Fish and Wildlife Service and the National Oceanic and Atmospheric Administration. The ANS Task Force provides advice on AIS infesting waters of the United States and other nations, among other duties as specified in the Act.

Meeting Agenda

• Federally Managed Water Bodies and AIS Issues

• Model State Inspection and Decontamination Legislation

• Draft Snakehead and Lionfish Management Plans

• Voluntary Approaches to Developing Semi-Green Boats

• National Invasive Species Awareness Week

• Stop Aquatic Hitchhikers! Update

• Lake Tahoe ANS Management Plan

• Quagga Zebra Action Plan Update

• Report to Congress

• Fracking as an AIS Pathway

• Ballast Water Research

• Great Lakes and Mississippi River Basin Study

• Solutions to the Threat of AIS Through the Chicago Area Water System

The final agenda and other related meeting information will be posted on the ANS Task Force Web site at: http://anstaskforce.gov.

Meeting Minutes

Summary minutes of the meeting will be maintained by the Executive Secretary (see FOR FURTHER INFORMATION CONTACT). The minutes will be available for public inspection within 60 days after the meeting and will be posted on the ANS Task Force Web site at http://anstaskforce.gov.

Dated: March 18, 2014.
David Hoskins,
Co-Chair, Aquatic Nuisance Species Task Force, Assistant Director for Fish and Aquatic Conservation.

[FR Doc. 2014-06974 Filed 3-28-14; 8:45 am]

BILLING CODE 4310-55-P